DEPARTMENT OF THE INTERIOR

Fish and Wildlife Service

Receipt of an Application for an Incidental Take Permit for Construction of a Single-Family Home in Charlotte County, FL

AGENCY: Fish and Wildlife Service, Interior.

ACTION: Notice.

SUMMARY: We, the Fish and Wildlife Service (Service), announce the availability of an incidental take permit (ITP) and Habitat Conservation Plan (HCP). Bill Henshaw (Applicant) requests an ITP pursuant to section 10(a)(1)(B) of the Endangered Species Act of 1973, as amended (Act). The Applicant anticipates taking about 0.25 acre of foraging and sheltering habitat occupied by the threatened Florida scrub-jay (Aphelocoma coerulescens) (scrub-jay) incidental to lot preparation for the construction of a single-family home and supporting infrastructure in Charlotte County, Florida (Project). The Applicant's HCP describes the mitigation and minimization measures proposed to address the effects of the Project on the Florida scrub-jay.

DATES: We must receive your written comments on the ITP application and HCP on or before July 27, 2007.

ADDRESSES: See the SUPPLEMENTARY INFORMATION section below for information on how to submit your comments on the ITP application and HCP. You may obtain a copy of the ITP application and HCP by writing to: South Florida Ecological Services Field Office, Attn: Permit number TE154810-0, U.S. Fish and Wildlife Service, 1339 20th Street, Vero Beach, Florida, 32960-3559. In addition, we will make the ITP application and HCP available for public inspection by appointment during normal business hours at the South Florida Ecological Services Office at the above address.

FOR FURTHER INFORMATION CONTACT: Ms. Trish Adams, Fish and Wildlife Biologist, South Florida Ecological Services Office (see ADDRESSES), telephone: 772/562-3909, ext. 232.

SUPPLEMENTARY INFORMATION: If you wish to comment on the ITP application and HCP, you may submit comments by any one of several methods. Please reference permit number TE154810-0 in such comments. You may mail comments to the Service's South Florida Ecological Services Office (see ADDRESSES). You may also e-mail your comments to trish_adams@fws.gov. If you do not receive a confirmation from us that we have received your e-mail message, contact us directly at the telephone number listed under FOR FURTHER INFORMATION CONTACT. Finally, you may hand deliver comments to the South Florida Ecological Services Office (see ADDRESSES).

Before including your address, phone number, e-mail address, or other personal identifying information in your comments, you should be aware that your entire comment—including your personal identifying information—may be made publicly available at any time. While you can ask us in your comment to withhold your personal identifying information from public review, we cannot guarantee that we will be able to do so.

Residential construction for the Henshaw HCP will take place within Section 11, Township 41, Range 20, Englewood, Charlotte County, Florida, at 10239 Castanet Avenue. This lot is within scrub-jay occupied habitat.

The lot encompasses about 0.25 acre, and the footprint of the home, infrastructure, and landscaping precludes retention of scrub-jay habitat on this lot. In order to minimize take onsite the Applicant proposes to mitigate for the loss of 0.25 acre of scrub-jay habitat by contributing a total of $18,113 to the Florida Scrub-jay Conservation Fund administered by The Nature Conservancy or a Service approved conservation bank. The Conservation Fund is earmarked for use in the conservation and recovery of scrub-jays and may include habitat acquisition, restoration, and/or management.

The Service has determined that the Applicant's proposal, including the proposed mitigation and minimization measures, will have a minor or negligible effect on the species covered in the HCP. Therefore, the ITP is a “low-effect” project and qualifies as a categorical exclusion under the National Environmental Policy Act (NEPA), as provided by the Department of the Interior Manual (516 DM 2, Appendix 1 and 516 DM 6, Appendix 1). This preliminary information may be revised based on our review of public comments that we receive in response to this notice. Low-effect HCPs are those involving (1) minor or negligible effects on federally listed or candidate species and their habitats, and (2) minor or negligible effects on other environmental values or resources.

The Service will evaluate the HCP and comments submitted thereon to determine whether the application meets the requirements of section 10(a) of the Act (16 U.S.C. 1531 et seq.). If it is determined that those requirements are met, the ITP will be issued for the incidental take of the Florida scrub-jay. The Service will also evaluate whether issuance of the section 10(a)(1)(B) ITP complies with section 7 of the Act by conducting an intra-Service section 7 consultation. The results of this consultation, in combination with the above findings, will be used in the final analysis to determine whether or not to issue the ITP.

Authority: This notice is provided pursuant to Section 10 of the Endangered Species Act (16 U.S.C. 1531 et seq.) and NEPA regulations (40 CFR 1506.6).

Dated: June 21, 2007.
Paul Souza,
Field Supervisor, South Florida Ecological Services Office.

[FR Doc. E7-12452 Filed 6-26-07; 8:45 am]

BILLING CODE 4310-55-P